DEPARTMENT OF ENERGY

Federal Energy Regulatory Commission

Combined Notice of Filings #1

Take notice that the Commission received the following electric rate filings:

Docket Numbers: ER15-794-002.

Applicants: Catalyst Paper Operations Inc..

Description: Tariff Amendment per 35.17(b): Revised Amended MBR Tariff Application to be effective 12/31/9998.

Filed Date: 3/10/15.

Accession Number: 20150310-5153.

Comments Due: 5 p.m. ET 3/31/15.

Docket Numbers: ER15-820-001.

Applicants: Zone One Energy, LLC.

Description: Tariff Amendment per 35.17(b): Baseline New to be effective 4/15/2015.

Filed Date: 3/11/15.

Accession Number: 20150311-5010.

Comments Due: 5 p.m. ET 4/1/15.

Docket Numbers: ER15-1212-001.

Applicants: Southwest Power Pool, Inc..

Description: Tariff Amendment per 35.17(b): 1876R4 Kansas Electric Power Cooperative, Inc. NITSA NOA Ministerial Filing to be effective 3/1/2015.

Filed Date: 3/10/15.

Accession Number: 20150310-5171.

Comments Due: 5 p.m. ET 3/31/15.

Docket Numbers: ER15-1215-000.

Applicants: Avista Corporation.

Description: Section 205(d) rate filing per 35.13(a)(2)(iii): Avista Corp Rate Schedule FERC No. 548 to be effective 12/31/9998.

Filed Date: 3/10/15.

Accession Number: 20150310-5175.

Comments Due: 5 p.m. ET 3/31/15.

Docket Numbers: ER15-1216-000.

Applicants: PacifiCorp.

Description: Section 205(d) rate filing per 35.13(a)(2)(iii): OATT Revised Definitions and Attachment T (Demand Response) to be effective 3/11/2015.

Filed Date: 3/10/15.

Accession Number: 20150310-5190.

Comments Due: 5 p.m. ET 3/31/15.

Docket Numbers: ER15-1217-000.

Applicants: Southern California Edison Company.

Description: Section 205(d) rate filing per 35.13(a)(2)(iii): GIA and Distribution Service Agmt with Cal Sunrise LLC to be effective 5/11/2015.

Filed Date: 3/11/15.

Accession Number: 20150311-5004.

Comments Due: 5 p.m. ET 4/1/15.

Docket Numbers: ER15-1218-000.

Applicants: Solar Star California XIII, LLC.

Description: Initial rate filing per 35.12 Solar Star California XIII, LLC Market-Based Rate Tariff to be effective 4/1/2015.

Filed Date: 3/11/15.

Accession Number: 20150311-5049.

Comments Due: 5 p.m. ET 4/1/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 11, 2015.
Nathaniel J. Davis, Sr.,
Deputy Secretary.

[FR Doc. 2015-06134 Filed 3-17-15; 8:45 am]

BILLING CODE 6717-01-P